DEPARTMENT OF LABOR

Office of Labor-Management Standards

Proposed Extension of the Approval of Information Collection Requirements

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of Labor-Management Standards is soliciting comments concerning its proposal to extend the Office of Management and Budget (OMB) approval of the Information Collection 1215-0205: Pre-2007 Labor Organization Officer and Employee Report (Pre-2007 Form LM-30). A copy of the proposed information collection request can be obtained by contacting the office listed below in the ADDRESSES section of this Notice.

DATES: Written comments must be submitted to the office listed in the address section below on or before November 2, 2009.

ADDRESSES: Mr. Steven D. Lawrence, U.S. Department of Labor, 200 Constitution Ave., NW., Room S-3201, Washington, DC 20210, telephone (202) 693-0292, fax (202) 693-1451, E-mail Lawrence.Steven@dol.gov. Please use only one method of transmission for comments (mail, fax, or E-mail).

SUPPLEMENTARY INFORMATION:

I. Background

Congress enacted the Labor-Management Reporting and Disclosure Act (LMRDA), 29 U.S.C. 401 et seq., to provide for the disclosure of information on the financial transactions and administrative practices of labor organizations, and, under certain circumstances, for reporting by labor organization officers and employees, employers, labor relations consultants, and surety companies. Section 208 of the Act authorizes the Secretary to issue rules and regulations prescribing the form of the required reports and such other rules and regulations (including rules prescribing reports concerning trusts in which a labor organization is interested) as may be necessary to prevent circumvention or evasion of the reporting requirements.

The Secretary established the Form LM-30, Labor Organization Officer and Employee Report, pursuant to section 202 of the LMRDA, 29 U.S.C. 432. See 29 CFR Part 404. Section 202 was intended to disclose certain payments and interests that could create a potential conflict of interest between the union officer and employee and his or her obligations to the union. The Form LM-30 requires every labor organization officer and employee (other than an employee performing exclusively clerical or custodial services) to file a Form LM-30 report within 90 days of the end of his/her fiscal year listing and describing certain financial transactions engaged in, and interests held by, the officer or employee or his/her spouse or minor child:

(1) Legal and equitable interests, transactions with, and economic benefits from an employer whose employees his/her union represents or seeks to represent; (2) legal and equitable interests in, transactions with, and economic benefits from certain businesses that deal in substantial part with the business of the employer whose employees the union represents or seeks to represent, or that deal with the union or a trust in which the labor organization is interested; and (3) certain income and other economic benefits received from any employer or labor relations consultant.

The Form LM-30 applies to officers and employees of labor organizations with private sector employees working in interstate commerce within the meaning of sections 3(i) and (j) of the LMRDA, 29 U.S.C. 402(i) and (j), and of labor organizations composed of U.S. Postal Service employees. It does not apply to officers and employees of labor organizations that represent employees of the executive branch agencies of the Federal Government, the Library of Congress, the Government Printing Office, or employees of the U.S. Congress. Form LM-30 filers must ensure the maintenance and retention of supporting records for five years after the required reports are filed.

On July 2, 2007, the Department published a final rule establishing a revised Form LM-30, which dramatically altered the pre-2007 Form LM-30 (72 FR 36105). The information collection for the 2007 version of the Form LM-30 is currently approved by OMB through November 30, 2011, with an OMB number of 1215-0188. (Information collection 1215-0188 also includes the remaining LMRDA reporting and disclosure forms).

However, fundamental questions have arisen regarding the scope and extent of the reporting obligations under the 2007 Form LM-30 and remain unanswered, and litigation challenging some aspects of this form remains pending. The Department published in the spring 2009 Semi-Annual Regulatory Agenda notice of an intended rulemaking to revise the Form LM-30. The rulemaking is intended to review questions of policy and law surrounding the union officer and employee-reporting obligation and will focus on reporting changes resulting from the 2007 regulatory revision of the LM-30 form and instructions.

While the planned rulemaking is pending, union officers and employees must continue to meet their statutory obligation pursuant to section 202 of the LMRDA. In light of the unresolved questions regarding the scope of reporting required under section 202, the pending regulatory action, the pending litigation, and the statutorily mandated filing obligation, the Department has determined that it would not be a good use of resources to bring enforcement actions based upon a failure to use a specific form to comply with the statutory obligation to report under section 202 of the LMRDA. Accordingly, the Department will refrain from initiating enforcement actions against union officers and union employees based solely on the failure to file the report required by section 202 using the 2007 form, as long as individuals meet their statutorily-required filing obligation in some manner. The Department will accept a report filed on either the pre-2007 Form LM-30 or the 2007 form for purposes of this enforcement policy.

This information collection request is needed to ensure that filers have both options available pending regulatory action, and pertains only to the pre-2007 Form LM-30. This information collection is currently approved for use through September 30, 2009. The Department is seeking an extension of this information collection on the pre-2007 Form LM-30 through November 30, 2011. This date is the current expiration date for OMB Number 1215-0188 (all other reporting and disclosure forms).

II. Review Focus

The Department of Labor is particularly interested in comments that:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions

The DOL seeks the approval of the extension of this information collection in order to ensure parties receive information required by the LMRDA and for the agency to carry out its responsibilities under the Act.

Type of Review: Extension.

Agency: Office of Labor-Management Standards.

Title: Pre-2007 Labor Organization Officer and Employee Report (Pre-2007 Form LM-30).

OMB Number: 1215-0205.

Affected Public: Private Sector.

Total Respondents: 1,998.

Total Annual Responses: 1,998.

Estimated Total Burden Hours: 1,166.

Estimated Time Per Response: 35 minutes.

Frequency: Annually.

Total Burden Cost (capital/startup): $0.

Total Burden Cost (operating/maintenance): $0.

Comments submitted in response to this notice will be summarized and/or included in the request for Office of Management and Budget approval of the information collection request; they will also become a matter of public record.

Dated: August 27, 2009.
Steven D. Lawrence,
Acting Chief, Branch of Management Review and Internal Control, Division of Financial Management, Office of Management, Administration and Planning.

[FR Doc. E9-21025 Filed 8-31-09; 8:45 am]

BILLING CODE 4510-CP-P